DEPARTMENT OF COMMERCE

International Trade Administration

[A-580-855]

Diamond Sawblades and Parts Thereof From the Republic of Korea: Extension of Time Limit for the Preliminary Results of the Antidumping Duty Administrative Review

AGENCY: Import Administration, International Trade Administration, Department of Commerce.

DATES: Effective Date: July 8, 2011.

FOR FURTHER INFORMATION CONTACT: Scott Holland or Chris Siepmann, AD/CVD Operations, Office 1, Import Administration, U.S. Department of Commerce, 14th Street and Constitution Avenue, NW., Washington, DC 20230; telephone (202) 482-1279 and (202) 482-7958, respectively.

SUPPLEMENTARY INFORMATION:

Background

On December 28, 2010, the U.S. Department of Commerce (“Department”) published a notice of initiation of administrative review of the antidumping duty order on diamond sawblades and parts thereof from the Republic of Korea, covering the period January 23, 2009, through October 31, 2010. See Initiation of Antidumping and Countervailing Duty Administrative Reviews and Request for Revocation In Part, 75 FR 81565 (December 28, 2010). The preliminary results of this administrative review are currently due no later than August 2, 2011.

Statutory Time Limits

Section 751(a)(3)(A) of the Tariff Act of 1930, as amended (“the Act”), requires the Department to issue the preliminary results of an administrative review within 245 days after the last day of the anniversary month of an order for which a review is requested and issue the final results within 120 days after the date on which the preliminary results are published. However, if it is not practicable to complete the review within the time period, section 751(a)(3)(A) of the Act allows the Department to extend these deadlines to a maximum of 365 days and 180 days, respectively.

Extension of Time Limit for Preliminary Results

The Department devoted substantial time to resolving model-matching issues earlier in this proceeding and requires additional time to analyze the complex issues in this case, such as the further manufacturing performed by some of the respondents. Therefore, it is not practicable to complete the preliminary results of this review within the original time limit, and the Department is extending the time limit for completion of the preliminary results by 120 days. The preliminary results will now be due no later than November 30, 2011, which is 120 days from the current deadline. The final results continue to be due 120 days after the publication of the preliminary results.

This notice is issued and published in accordance with sections 751(a)(3)(A) and 777(i)(1) of the Act.

Dated: July 1, 2011.
Gary Taverman,
Acting Deputy Assistant Secretary for Antidumping and Antidumping Duty Operations.

[FR Doc. 2011-17211 Filed 7-7-11; 8:45 am]

BILLING CODE 3510-DS-P